DEPARTMENT OF COMMERCE

International Trade Administration

[A-583-008]

Certain Circular Welded Carbon Steel Pipes and Tubes From Taiwan: Notice of Rescission of Antidumping Duty Administrative Review

AGENCY: Import Administration, International Trade Administration, Department of Commerce.

SUMMARY: In response to a request from United States Steel Corporation, an interested party, the Department of Commerce (the Department) initiated an administrative review of the antidumping duty order on circular welded carbon steel pipes and tubes from Taiwan. The period of review is May 1, 2010, through April 30, 2011. Based on the withdrawal of request for review submitted by United States Steel Corporation (the Petitioner), we are now rescinding this administrative review.

DATES: Effective Date: December 13, 2011.

FOR FURTHER INFORMATION CONTACT: Steve Bezirganian or Robert James, AD/CVD Operations, Office 7, Import Administration, International Trade Administration, U.S. Department of Commerce, 14th Street and Constitution Avenue NW., Washington DC 20230; telephone: (202) 482-1131 or (202) 482-0649, respectively.

SUPPLEMENTARY INFORMATION:

Background

On June 28, 2011, the Department published in the Federal Register a notice of initiation of an administrative review of the antidumping duty order on circular welded carbon steel pipes and tubes from Taiwan covering the period May 1, 2010, through April 30, 2011. See Initiation of Antidumping and Countervailing Duty Administrative Reviews and Request for Revocation in Part, 76 FR 37781 (June 28, 2011). The review covered eight companies. The Petitioner was the sole party to request reviews of these eight companies.

On August 8, 2011, the Petitioner withdrew its request for an administrative review for the following six companies: (1) E United Group; (2) Yieh Corp.; (3) Yieh Hsing Enterprise Co., Ltd.; (4) Far East Machinery Co. Ltd.; (5) Kao Hsing Chang Iron & Steel Corp. (also known as Kao Hsiung Chang Iron & Steel Corp.); and (6) Tension Steel Industries Co. Ltd. The Department rescinded the review with respect to these companies. See Circular Welded Carbon Steel Pipes and Tubes From Taiwan: Notice of Partial Rescission of Antidumping Duty Administrative Review, 76 FR 57020 (September 15, 2011).

On November 4, 2011, the Petitioner withdrew its request for an administrative review for the remaining two companies (i.e., Yieh Phui Enterprise Co., Ltd. and Chung Hung Steel Corporation).

Rescission of Review

Pursuant to 19 CFR 351.213(d)(1) of the Department's regulations, the Department will rescind an administrative review if the party that requested the review withdraws its request for review within 90 days of the publication of the notice of initiation of the requested review, or withdraws at a later date if the Department determines it is reasonable to extend the time limit for withdrawing the request. Therefore, although Petitioner withdrew its request after the 90-day deadline, the Department has the discretion to extend this time limit. Consistent with the Department's practice, we find it reasonable to extend the withdrawal deadline and to rescind the review with respect to Yieh Phui Enterprise Co., Ltd. and Chung Hung Steel Corporation because the Department has not devoted significant time or resources to the review and Petitioner is the only party to request a review. See, e.g., Welded Large Diameter Line Pipe From Japan: Notice of Rescission of Antidumping Duty Administrative Review, 75 FR 38989, 38990 (July 7, 2010); see also Persulfates from the People's Republic of China: Notice of Rescission of Antidumping Duty Administrative Review, 71 FR 13810, 13811 (March 17, 2006).

Assessment

The Department will instruct U.S. Customs and Border Protection (CBP) to assess antidumping duties on all appropriate entries. For Yieh Phui Enterprise Co., Ltd. and Chung Hung Steel Corporation, antidumping duties shall be assessed at rates equal to the cash deposit of estimated antidumping duties required at the time of entry, or withdrawal from warehouse, for consumption, in accordance with 19 CFR 351.212(c)(1)(i). The Department intends to issue appropriate assessment instructions directly to CBP 15 days after publication of this notice.

Notifications

This notice serves as a final reminder to importers for whom this review is being rescinded of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: December 7, 2011.
Christian Marsh,
Deputy Assistant Secretary for Antidumping and Countervailing Duty Operations.

[FR Doc. 2011-31936 Filed 12-12-11; 8:45 am]

BILLING CODE 3510-DS-P